POSTAL SERVICE

39 CFR Part 111

New Mailing Standards for Domestic Mailing Services Products

AGENCY: Postal Service™.

ACTION: Final rule.

SUMMARY: On October 9, 2019, the Postal Service™ filed a notice of mailing services price adjustments with the Postal Regulatory Commission (PRC), effective January 26, 2020. This final rule contains the revisions to Mailing Standards of the United States Postal Service, Domestic Mail Manual (DMM®) to implement the changes coincident with the price adjustments and other minor DMM changes.

DATES: Effective January 26, 2020.

FOR FURTHER INFORMATION CONTACT: Jacqueline Erwin at (202) 268-2158, or Dale Kennedy at (202) 268-6592.

SUPPLEMENTARY INFORMATION: On December 20, 2019, the Postal Regulatory Commission (PRC) found that the price adjustments proposed by the Postal Service may take effect as planned. The price adjustments and DMM revisions are scheduled to become effective on January 26, 2020. Final prices are available under Docket No. R2020-1 (Order No.5373) on the Postal Regulatory Commission's website at www.prc.gov.

USPS did not receive any comments on the proposed changes.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail

* * * * *

230 First-Class Mail

233 Prices and Eligibility

1.0 Prices and Fees

* * * * *

1.5 Presort Mailing Fee

[Revise the second sentence of 1.5; to read as follows:]

* * * Payment of this fee does not apply to qualified full-service mailings (under 705.23.3.1a).* * *

* * * * *

240 Commercial Mail USPS Marketing Mail

243 Prices and Eligibility

1.0 Prices and Fees

* * * * *

1.4 Fees

1.4.1 Presort Mailing Fee

[Revise the second sentence of 1.4.1; to read as follows:]

* * * Payment of this fee does not apply to mailers who present qualified full-service mailings (under 705.23.3.1a).* * *

* * * * *

260 Commercial Mail Bound Printed Matter

263 Prices and Eligibility

1.0 Prices and Fees

* * * * *

1.2 Presorted and Carrier Route Bound Printed Matter

* * * * *

1.2.5 Destination Entry Mailing Fee

[Revise the last sentence of 1.2.5; to read as follows:]

* * * Payment of this fee does not apply to mailers who present only qualified full-service flat-size mailings (under 705.23.3.1a).

* * * * *

500 Additional Services

* * * * *

508 Recipient Services

* * * * *

4.0 Post Office Box Service

* * * * *

4.4 Basis of Fees and Payment

* * * * *

4.4.2 Fee Changes

[Revise the second sentence of 4.4.2; to read as follows:]

* * * In addition, the USPS may assign a fee group to a new ZIP Code, may reassign one or more 5-digit ZIP Codes to the next higher or lower fee group based on the ZIP Codes' cost and market characteristics, or may regroup 5-digit ZIP Codes.* * *

* * * * *

5.0 Caller Service

* * * * *

5.5 Basis of Fees and Payment

* * * * *

5.5.3 Fee Changes

[Revise the text of 5.5.3 by adding new last sentence; to read as follows:]

* * * In addition, the USPS may assign a fee group to a new ZIP Code, may reassign one or more 5-digit ZIP Codes to the next higher or lower fee group based on the ZIP Codes' cost and market characteristics, or may regroup 5-digit ZIP Codes.

* * * * *

700 Special Standards

* * * * *

705 Advanced Preparation and Special Postage Payment Systems

* * * * *

22.0 Seamless Acceptance Program

* * * * *

22.3 Basic Standards

[Revise the introductory text of 22.3, by adding new second and third sentences to read as follows:]

* * * Any permits used in a Seamless acceptance mailing will not prevent that mailing from being finalized regardless of if an annual fee is due on that permit. However, the first time the permit is used for a non-seamless mailing the mailer will have to pay the permit fee if they do not meet the requirements for a fee waiver.* * *

* * * * *

23.0 Full-Service Automation Option

* * * * *

23.2 General Eligibility Standards

[Revise the first sentence of the introductory text of 23.2; to read as follows:]

First-Class Mail (FCM), Periodicals, and USPS Marketing Mail, cards (FCM only), letters (except letters using simplified address format) and flats meeting eligibility requirements for automation or carrier route prices (except for USPS Marketing Mail ECR saturation flats), and Bound Printed Matter presorted or carrier route barcoded flats, are potentially eligible for full-service incentives.* * *

23.3 Fees

[Revise the title of 23.3.1; to read as follows:]

23.3.1 Eligibility for Exception to Payment of Annual Fees and Waiver of Deposit of Permit Imprint Mail Restrictions

[Revise the introductory text of 23.3.1; to read as follows:]

Mailers who present automation or presort mailings (of First-Class Mail cards, letters, and flats, USPS Marketing Mail letters and flats, or Bound Printed Matter flats) that contain 90 percent or more full-service eligible mail as full-service, and 75 percent of their total mail is eligible for full-service incentives, are eligible for the following exception to standards:

[Revise the text of item 23.3.1a; to read as follows:]

a. Annual presort mailing or destination entry fees, as applicable, do not apply to mailings entered by mailers who meet both the 90 percent and 75 percent full-service thresholds, for qualified full-service mailings, as specified in 23.3.1.* * *

* * * * *

Notice 123 (Price List)

[Revise prices as applicable.]

* * * * *

We will publish an appropriate amendment to 39 CFR part 111 to reflect these changes.

Joshua J. Hofer,
Attorney, Federal Compliance.

[FR Doc. 2019-28488 Filed 1-10-20; 8:45 am]

BILLING CODE 7710-12-P